DEPARTMENT OF DEFENSE

GENERAL SERVICES ADMINISTRATION

NATIONAL AERONAUTICS AND SPACE ADMINISTRATION

48 CFR Parts 1, 36, and 53

[FAC 2001-19; FAR Case 2000-608A Item I]

RIN 9000-AJ15

Federal Acquisition Regulation; New Consolidated Form for Selection of Architect-Engineer Contractors (Delay of Effective Date)

AGENCIES: Department of Defense (DoD), General Services Administration (GSA), and National Aeronautics and Space Administration (NASA).

ACTION: Final rule: delay of effective date.

SUMMARY: The Civilian Agency Acquisition Council and the Defense Acquisition Regulations Council (Councils) have agreed to delay the effective date of FAR Case 2000-608, New Consolidated Form for Selection of Architect-Engineer Contractors, which was published in FAC 2001-018, in the Federal Register at 68 FR 69227, December 11, 2003. The effective date is delayed from January 12, 2004, to June 8, 2004, and there is no longer any reference to the applicability date. Industry users have requested that the effective date be changed to allow them more time to prepare before the SF 330 is effective. This amendment changes the effective date and eliminates the applicability date.

DATES: Effective Date: Effective January 7, 2004, the effective date of FAR Case 2000-608, New Consolidated Form for Selection of Architect-Engineer Contractors, published in the Federal Register at 68 FR 69227, December 11, 2003, is delayed until June 8, 2004.

Applicability Date: The applicability date specified in the final rule published in the Federal Register at 68 FR 69227, December 11, 2003, is removed from this final rule.

FOR FURTHER INFORMATION CONTACT: The FAR Secretariat, Room 4035, GS Building, Washington, DC 20405, (202) 501-4755, for information pertaining to status or publication schedules. For clarification of content, contact Ms. Cecelia Davis, Procurement Analyst, at (202) 219-0202. Please cite FAC 2001-19, FAR Case 2000-608A.

SUPPLEMENTARY INFORMATION:

A. Background

An interagency ad hoc committee developed the SF 330.

It was based on the results of a joint Federal-industry survey of the existing Standard Forms (SFs) 254, Architect-Engineer and Related Services Questionnaire, and 255, Architect-Engineer and Related Services Questionnaire for Specific Project, conducted by the Standing Committee on Procurement and Contracting of the Federal Facilities Council (FCC) in 1995 and published in 1996 as FCC Report Number 130, entitled “Survey on the Use of Standard Forms 254 and 255 for Architect-Engineer Qualifications.” The survey's purpose was to evaluate the current use of the forms which are used for the submission of qualifications by architect-engineer (A-E) firms interested in Federal contracts, and to identify possible improvements which would enable the existing forms to better serve the needs of Federal agencies and the A-E industry. The SFs 254 and 255 have changed little since their introduction in 1975, although the variety of A-E services has greatly expanded and new technologies have dramatically changed the way A-E firms do business. The report states that Federal agencies and A-E industry overwhelmingly support a structured format for submitting A-E qualifications, because the structured format saves time and effort and allows efficient and consistent evaluations. It also recommends many specific changes to the existing forms to enhance their effectiveness and simplify their use. Both Federal and A-E industry practitioners believe that the forms need streamlining as well as updating to facilitate electronic usage. The objectives of the SF 330 are to merge the SFs 254 and 255 into a single streamlined form, expand essential information about qualifications and experience, reflect current architect-engineer disciplines, experience types and technology, eliminate information of marginal value, permit limitations on submission length, and facilitate electronic usage. A proposed FAR rule for a new Architect-Engineer Qualifications form was published in the Federal Register at 66 FR 53314, October 19, 2001. The final rule replaces SFs 254 and 255 with SF 330, and makes related FAR revisions in 1.106, 36.603, 36.702, 53.236-2, 53.301-254, 53.301-255, and 53.301-330. Use of the SF 330 becomes effective June 8, 2004. Agencies are to continue to use SFs 254 and 255 until the SF 330 is effective.

B. Regulatory Flexibility Act

The Regulatory Flexibility Act analysis was completed and addressed in the final rule published in the Federal Register at 68 FR 69227, December 11, 2003.

C. Paperwork Reduction Act

The Paperwork Reduction Act (Pub. L. 104-13) applies; however, this information was provided in the final rule published in the Federal Register at 68 FR 69227, December 11, 2003.

List of Subjects in 48 CFR Parts 1, 36, and 53

Government procurement.

Dated: December 30, 2003.
Laura Auletta,
Director, Acquisition Policy Division.

[FR Doc. 04-177 Filed 1-6-04; 8:45 am]

BILLING CODE 6820-EP-P